DEPARTMENT OF ENERGY

[FE Docket No. 02-15-NG]

Office of Fossil Energy; Midland Cogeneration Venture Limited Partnership; Order Granting Long-Term Authorization To Import Natural Gas From Canada

AGENCY: Office of Fossil Energy, DOE.

ACTION: Notice of order.

SUMMARY: The Office of Fossil Energy (FE) of the Department of Energy (DOE) gives notice that on April 9, 2002, it issued DOE/FE Order No.1765 granting Midland Cogeneration Venture Limited Partnership (MCV) authority to import up to 10,000 Mcf per day of natural gas from Canada beginning on November 1, 2002, and extending through October 31, 2010. The gas will be imported from Anadarko Canada Corporation at Noyes, Minnesota. It will be used to generate electricity and process steam at a 1,370-megawatt, natural gas-fired, combined-cycle, cogeneration facility which MCV operates in Midland, Michigan.

This Order may be found on the FE Web site at http://www.fe.doe.gov, or on our electronic bulletin board at (202) 586-7853. It is also available for inspection and copying in the Office of Natural Gas & Petroleum Import & Export Activities Docket Room, 3E-033, Forrestal Building, 1000 Independence Avenue, SW, Washington, DC 20585-0334, (202) 586-9478. The Docket Room is open between the hours of 8 a.m. and 4:30 p.m., Monday through Friday, except Federal holidays.

Issued in Washington, DC, April 18, 2002.
Yvonne Caudillo,
Acting Manager, Natural Gas Regulation, Office of Natural Gas & Petroleum Import & Export Activities, Office of Fossil Energy.

[FR Doc. 02-10284 Filed 4-25-02; 8:45 am]

BILLING CODE 6450-01-P